DEPARTMENT OF COMMERCE

National Oceanic and Atmospheric Administration

RIN 0648-XD507

Gulf of Mexico Fishery Management Council; Public Meeting

AGENCY: National Marine Fisheries Service (NMFS), National Oceanic and Atmospheric Administration (NOAA), Commerce.

ACTION: Notice; public meeting.

SUMMARY: The Gulf of Mexico Fishery Management Council (Council) will hold a meeting of its Penaeid Shrimp Workshop Group.

DATES: The meeting will convene at 1 p.m. (C.S.T.) on October 7 until 12 noon on October 9, 2014.

ADDRESSES:

Meeting address: The meeting will be held at the Hilton New Orleans Airport Hotel, located at 901 Airline Drive, Kenner, LA 70062.

Council address: Gulf of Mexico Fishery Management Council, 2203 North Lois Avenue, Suite 1100, Tampa, FL 33607.

FOR FURTHER INFORMATION CONTACT: Dr. Morgan Kilgour, Fishery Biologist, Gulf of Mexico Fishery Management Council; telephone: (813) 348-1630; fax: (813) 348-1711; email: morgan.kilgour@gulfcouncil.org

SUPPLEMENTARY INFORMATION: The items of discussion on the agenda are as follows:

Penaeid Shrimp Workshop Agenda, Tuesday, October 7, 2014, 1 p.m. (C.S.T.) Until Thursday, October 9, 2014, 12 Noon

The Group will discuss the appropriate methods for establishing MSY for penaied (brown, pink and white) shrimp stocks in the Gulf of Mexico. The group will then determine the appropriate values of MSY for penaeid shrimp. The group may also evaluate the ABC control rule for penaeid shrimp if time permits.

- Adjourn -

The Agenda is subject to change, and the latest version will be posted on the Council's file server, which can be accessed by going to the Council Web site at http://www.gulfcouncil.org and clicking on FTP Server under Quick Links. For meeting materials see folder “Penaeid Shrimp Workshop Meeting—2014-10” on Gulf Council file server. To access the file server, the URL is https://public.gulfcouncil.org:5001/webman/index.cgi, or go to the Council's Web site and click on the FTP link in the lower left of the Council Web site (http://www.gulfcouncil.org). The username and password are both “gulfguest”.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: September 16, 2014.
Tracey L. Thompson,
Acting Deputy Director, Office of Sustainable Fisheries, National Marine Fisheries Service.

[FR Doc. 2014-22430 Filed 9-19-14; 8:45 am]

BILLING CODE 3510-22-P